DEPARTMENT OF TRANSPORTATION

National Highway Traffic Safety Administration

[Docket No. NHTSA-2024-0077]

New Car Assessment Program (NCAP) Notice—Delay of Program Updates

AGENCY: National Highway Traffic Safety Administration (NHTSA), Department of Transportation (DOT).

ACTION: Notice of postponement of the implementation of program updates for the New Car Assessment Program (NCAP).

SUMMARY: On November 25, 2024, and December 3, 2024, the National Highway Traffic Safety Administration (NHTSA) published in the Federal Register two final decision notices announcing changes to the Agency's New Car Assessment Program (NCAP) and stated that these changes would be implemented beginning with model year 2026 vehicles. This notice announces that implementation of the changes discussed in the November 2024 and December 2024 notices are postponed for one model year.

DATES: Crashworthiness pedestrian protection assessments, as discussed in NCAP's November 25, 2024 notice, as well as planned changes to the ADAS technologies included in NCAP, as described in NCAP's December 3, 2024 notice, will be implemented for model year 2027 vehicles.

FOR FURTHER INFORMATION CONTACT: For further information, you may contact Ms. Taryn E. Rockwell, New Car Assessment Program, Office of Crashworthiness Standards (Telephone: (202) 366-1810). You may send mail to this official at the National Highway Traffic Safety Administration, 1200 New Jersey Avenue SE, West Building, Washington, DC 20590-0001.

SUPPLEMENTARY INFORMATION:

I. Executive Summary

On November 25, 2024, the National Highway Traffic Safety Administration (NHTSA) published in the Federal Register a final decision notice that established a new crashworthiness pedestrian program as part of the Agency's New Car Assessment Program (NCAP).¹ Subsequently, on December 3, 2024, NHTSA published a final decision notice that added four new advanced driver assistance systems (ADAS) technologies to NCAP—blind spot warning (BSW), blind spot intervention (BSI), lane keeping assist (LKA), and pedestrian automatic emergency braking (PAEB)—and updated existing requirements for automatic emergency braking (AEB).² These program updates were to be implemented beginning with model year 2026 vehicles. This notice announces that implementation of the changes discussed in the November 2024 and December 2024 notices are postponed for one model year to model year 2027 vehicles. The Agency will continue to recommend the existing ADAS technologies—forward collision warning (FCW), crash imminent braking (CIB), dynamic braking support (DBS), and lane departure warning (LDW)—for the 2026 model year. For the reasons explained elsewhere in this notice, NHTSA will, however, also assign credit to any vehicle models for which the respective vehicle manufacturer has provided an attestation of passing performance for one or more of the new ADAS technologies in their response to NCAP's annual vehicle information request for model year 2026 vehicles. Credit for vehicles exhibiting passing performance for the adopted crashworthiness pedestrian protection requirements will not be issued for the 2026 model year.

¹ 89 FR 93000.

² 89 FR 95916.

II. Background

NHTSA established the NCAP program in 1978 in response to Title II of the Motor Vehicle Information and Cost Savings Act of 1972. The program began with frontal impact testing in 1979 and has expanded over the years to include side impact barrier testing in 1996, rollover assessments in 2000 and 2003, side impact pole testing in 2011, and assessments for advanced driver assistance systems (ADAS) beginning with model year 2011 vehicles. Adopted ADAS technologies have included electronic stability control (ESC), forward collision warning (FCW), and lane departure warning (LDW), added in 2011; rear visibility systems, adopted in 2013; and more recently, crash imminent braking (CIB) and dynamic braking support (DBS), known collectively as automatic emergency braking (AEB), added in 2015 for model year 2018 vehicles. While NHTSA assigns star ratings on its website for the original program elements (i.e., frontal impact, side impact, and rollover assessments), it uses checkmarks to recommend to consumers those ADAS technologies that meet NCAP's performance requirements.

On December 3, 2024, NHTSA published a final decision notice ³ announcing its plan to update NCAP's ADAS program to include several new technologies—blind spot warning (BSW), blind spot intervention (BSI), lane keeping assist (LKA), and pedestrian automatic emergency braking (PAEB)—as well as to increase the stringency for the existing performance requirements related to AEB. Around the same time, in a final decision notice published on November 24, 2024,⁴ the Agency also announced the addition of a crashworthiness pedestrian protection program to NCAP. NHTSA stated that changes adopted for both notices would be implemented beginning with model year 2026 vehicles.

³ 89 FR 95916.

⁴ 89 FR 93000.

III. Rationale for Postponing NCAP Enhancements for One Model Year

NHTSA has decided to postpone implementation of adding crashworthiness pedestrian protection information and adding recommendations for the four new ADAS technologies to NCAP for one model year. These program changes will now be effective beginning with model year 2027 vehicles. The Agency believes delaying the planned updates is appropriate to address concerns expressed by the automotive industry and to provide the Agency with sufficient time to implement the planned changes in a manner that ensures the integrity of the NCAP program is upheld.

A. Concerns Expressed by Auto Innovators

On April 25, 2025, NHTSA received a letter from the Alliance for Automotive Innovation (Auto Innovators) submitted in response to the Agency's November 25, 2024 and December 3, 2024 final decision notices on adding to NCAP a pedestrian protection program and four new ADAS technologies, respectively. In its letter, Auto Innovators, a consortium of vehicle manufacturers and suppliers, requested that NHTSA delay the planned program changes for NCAP by at least one year, citing (1) NHTSA's failure to publish test procedures for evaluating crashworthiness pedestrian protection, (2) outstanding technical questions surrounding the Agency's final decisions for both the new ADAS technologies and the crashworthiness pedestrian protection program, (3) an implementation timeline that limits manufacturer participation by imposing unnecessary barriers, and (4) a lack of comparative ratings to allow consumers to differentiate between the safety performance of vehicles.

Regarding a lack of published test procedures for crashworthiness pedestrian protection assessments, Auto Innovators added, while it appreciates NHTSA's attempt to align with the corresponding European New Car Assessment Program (Euro NCAP) test protocols, that a delay in finalizing and publishing official test procedures for the U.S. NCAP's crashworthiness pedestrian protection assessments “is creating unnecessary uncertainty [and undue burden] for manufacturers, is preventing manufacturers from fully evaluating their current and future fleet, and is limiting their ability to identify any specific changes that may be needed in order to meet the new pedestrian protection crashworthiness ratings.”

With respect to outstanding technical questions surrounding NHTSA's final decisions for both program updates, Auto Innovators expressed that validation testing in process may introduce questions or issues that would have to be addressed quickly to ensure manufacturers continue to participate in the NCAP program. Adding to this, the group asserted that there is a significant cost associated with vehicle testing, and manufacturers will be cautious to complete testing proactively due to concern of having to repeat testing to account for differences in test procedures.

As mentioned, the organization also conveyed concerns regarding time and resource constraints given NHTSA's decision to invoke program changes with less than a year's notice. Auto Innovators contended that the adopted implementation schedule did not allow sufficient time for manufacturers to implement vehicle design changes to meet the new NCAP performance requirements, and as such, proceeding on the current timetable would be a disservice to not just vehicle manufacturers, but also consumers and NHTSA, because manufacturers would be able to attest to passing performance only for a limited number of vehicle models. The group explained that there are “practical constraints and logistical challenges that limit how quickly manufacturers can respond,” because manufacturers must not only redesign vehicle models to meet the new requirements, but must also procure new test equipment, make upgrades to test facilities, and adjust test schedules to accommodate the new testing.

Auto Innovators also commented on NHTSA's decision to establish a binary pass/fail performance criterion (with passing performance conveyed in the form of a checkmark on NHTSA's website) in lieu of a comparative rating system for the two program changes. The organization stated that this type of information is of limited use to consumers, as they will be unable to differentiate between vehicles offering different levels of performance. Furthermore, the group claimed that such a system, in general, is not conducive to incentivizing manufacturers to make incremental safety improvements, a main goal of NCAP. While Auto Innovators recognized that NHTSA is planning to conduct additional research to assess consumers' ratings preferences, the group also asserted that this research should have been completed before the Agency published its November 2024 and December 2024 final decision notices.

Auto Innovators stated that NHTSA must address all the aforementioned issues to ensure the NCAP program maintains credibility and consumers are provided with meaningful information.

Auto Innovators subsequently reaffirmed many of the concerns outlined in their April 25, 2025 letter in response to the Department of Transportation's (DOT's) request for information (RFI) on “Ensuring Lawful Regulation; Reducing Regulation and Controlling Regulatory Costs.” ⁵ In its comment submission, the organization requested that NHTSA delay implementation of the final decision on the ADAS and crashworthiness pedestrian protection program updates for NCAP by at least one year. While Auto Innovators expressed support for the program updates, it asserted that the new test procedures for both program components would “add significant time and resource burdens for both manufacturers and NHTSA,” and contended that a delay of the program updates would “improve the efficiency of the program and address any outstanding technical concerns.”

⁵ 90 FR 14593.

Agency Response

NHTSA acknowledges the concerns Auto Innovators has expressed. The Agency appreciates that the delay in finalizing and publishing test procedures has created uncertainty for manufacturers. It is understandable that manufacturers may not want to invest in redesigning vehicle models or conducting testing to evaluate their vehicles' ability to provide adequate protection to pedestrians in a crash if the actual test procedure and requirements are unknown. Vehicle testing imposes significant costs, and, as such, it may be cost prohibitive for many vehicle manufacturers to conduct testing if the results of that testing may later be deemed invalid due to changes to test procedures or requirements stemming from the Agency's validation testing. NHTSA also recognizes the cost and time commitment inherent to sourcing new laboratory equipment and making facility updates to accommodate new testing in a relatively short timeframe. These are all valid reasons to request that the Agency delay the implementation of the new NCAP requirements.

Auto Innovators' contention that all parties—manufacturers, consumers, and NHTSA—are best served if manufacturers are provided with sufficient time to implement vehicle design changes, perform confirmatory testing, and submit performance attestations to NHTSA early on in a model year is also reasonable. However, NHTSA does not mean to assert that an extended amount of time is needed to ensure all vehicles can achieve credit for passing performance at the onset of any new NCAP program update. NCAP is a consumer information program, not a compliance program. NCAP provides consumers with safety information on vehicle performance that exceeds that which is expected for minimum compliance standards, and as such, it also serves to incentivize vehicle manufacturers to make safety improvements to their vehicles that go beyond safety expectations so they may promulgate them and increase consumer interests. Given this, the Agency believes it is unnecessary to assure the vast majority of vehicles achieve passing performance for NCAP's assessments at the onset of any program updates.

Regarding Auto Innovators' opinion that NHTSA must establish a comparative rating system to ensure consumers are provided with meaningful information, the Agency agrees with Auto Innovators that there is a benefit to providing consumers with comparative crash avoidance and crashworthiness pedestrian protection ratings. This is not to say, however, that there is no benefit to the pass/fail performance metrics the Agency has adopted. NHTSA plans to assign credit (via checkmark) for each of the new ADAS technologies—AEB, PAEB-day, PAEB-night, BSW, BSI, and LKA—separately. Therefore, consumers may still differentiate among performance for multiple vehicles by comparing the number of ADAS systems that pass NCAP's performance requirements for each vehicle. As such, NHTSA believes vehicle manufacturers will still be enticed to make vehicle safety improvements in a timely manner.

The Agency notes that it has used checkmarks to signify passing system performance for all ADAS technologies included in NCAP to date, and they have proven to be a useful tool to encourage vehicle manufacturers to make system improvements to advance vehicles' crash avoidance capabilities. When NHTSA first added FCW to NCAP in 2011, approximately six percent of vehicles were equipped with systems that were able to meet NCAP's performance criteria whereas 92 percent were able to do so in 2023. Similarly, less than 5 percent of vehicles were equipped with CIB systems that met NCAP's performance requirements when the technology was first adopted in 2017, and yet over 80 percent of model year 2023 vehicles met these requirements. The Agency sees no reason to assume a different outcome would result by conveying system performance in a similar manner for the new ADAS technologies or crashworthiness pedestrian protection component adopted for the program. Furthermore, NHTSA does not reason that it would be more beneficial to consumers to impose significant, additional delays in implementing NCAP's most recent program updates as the Agency waits for the completion of its pending consumer information research centering around updates to the safety ratings portion of the vehicle Monroney Label. The Agency recognizes, as Auto Innovators also stated, that any additional program delays would not be ideal given the long-standing delays in updating NCAP since its last major upgrade implemented for model year 2011 vehicles.⁶ This being said, NHTSA does see merit in a one year delay for implementation of the adopted ADAS and crashworthiness pedestrian protection additions to address some of the concerns expressed by Auto Innovators and recognized by NHTSA. Delaying implementation of the changes to NCAP for one year should give manufacturers adequate time to prepare for the enhancements to the program, particularly as the Agency is publishing the crashworthiness pedestrian protection test procedures as a follow-on to this notice.⁷

⁶ 73 FR 40016.

⁷ Docket No. NHTSA-2024-0078.

B. Ensuring Program Integrity

The delay requested by Auto Innovators will also provide NHTSA with sufficient time to complete actions necessary to ensure the continued integrity of the NCAP program. The Agency will be able to make the necessary updates to the www.NHTSA.gov website to reflect the program changes and develop clear, consumer-friendly language that accurately communicates those changes. Along these lines, NHTSA will also be able to progress with development of two databases necessary to collect crash avoidance and crashworthiness pedestrian protection test data from NCAP's test labs and annual vehicle information data from vehicle manufacturers. These efforts are expected to increase program efficiency and data accuracy and reduce the reporting burden on vehicle manufacturers.

A one-year delay of the program enhancements will also allow the Agency time to complete ADAS and crashworthiness pedestrian protection validation testing of model year 2025 vehicles. Completion of this testing prior to the official implementation of the program updates is ideal so that NHTSA has time to revise the new ADAS test procedures to (1) resolve any errors or conflicts noted during the validation testing, (2) provide clarification to address any ambiguities observed for test conduct or performance requirements, and (3) provide any refinements that may be deemed beneficial to improve test reproducibility. The Agency took similar steps prior to the last major update to NCAP by providing clarifying language and corrections to the side impact moving deformable barrier and side pole test procedures, in addition to the respective dummy seating procedures and qualification procedures after the test procedures were published and the validation tests were completed.

IV. Data Collection and Reporting Requirements

Because NHTSA is delaying the adopted program updates for one year, manufacturers need not provide performance attestations for the new ADAS or crashworthiness pedestrian protection NCAP requirements for model year 2026 vehicles. Rather, such declarations would be submitted for vehicles beginning with the 2027 model year to obtain credit for the new program elements. Manufacturers may continue to provide NCAP with performance attestations for the four existing ADAS technologies—FCW, CIB, DBS, and LDW—for their model year 2026 vehicles. Since the Agency did not ask for performance declarations for the existing technologies as part of NCAP's most recent annual information request for model year 2026 vehicles, NHTSA plans to issue a supplemental request for information from vehicle manufacturers to obtain this data.

V. Credit for Existing and New Technologies but Not Crashworthiness Pedestrian Protection

NHTSA recognizes, as Auto Innovators stated, that manufacturers may have expended time and resources to perform testing in accordance with NCAP's new ADAS test protocols with the expectation of obtaining performance credit for any model year 2026 vehicles that provide passing performance for any of the newly adopted ADAS technologies. As such, the Agency will still issue checkmarks for the new ADAS technologies for these vehicle models. NHTSA plans to assign checkmarks for those vehicles achieving passing performance for the ADAS technologies that currently exist in NCAP (i.e., LDW, FCW, CIB, and DBS) as well as for those that have been newly adopted (i.e., AEB, PAEB-day, PAEB-night, BSW, BSI, and LKA).

NHTSA acknowledges that some individuals or entities may be concerned regarding how potential future updates to NCAP's new ADAS test procedures will affect performance credit awarded for model year 2026 vehicles. While the Agency recognizes that the test procedures for the newly adopted ADAS technologies may be updated to address ambiguities or to provide clarification, it does not believe that future updates will affect performance requirements. Accordingly, NHTSA does not anticipate removing credit for model year 2026 vehicles that achieve passing performance using the test protocols published with NCAP's December 2024 ADAS final decision notice. NHTSA would permit ADAS performance attestations to carry over from the 2026 model year to the 2027 model year for those vehicles having systems that have no changes to hardware or software such that their performance during NCAP's updated ADAS tests is unchanged from one model year to the next.

The Agency notes that it will not be similarly providing early credit for those model year 2026 vehicles that are able to achieve passing performance for NCAP's crashworthiness pedestrian protection program. The Agency is making a distinction for this program component compared to the new ADAS technologies because it does not believe manufacturers have been provided with sufficient information to conduct testing that would be assured to meet the test protocol that will ultimately be published for NCAP's crashworthiness pedestrian protection assessments. As such, credit for passing performance in NCAP's crashworthiness pedestrian protection tests will not be assigned on the Agency's website until the 2027 model year.

VI. Conveying Information to Consumers

Given the decisions discussed above, NHTSA plans to update its website to assign credit (via a checkmark) to any model year 2026 vehicles achieving passing system performance for the existing ADAS technologies (i.e., FCW, CIB, DBS, and LDW) as well as the newly adopted technologies (i.e., AEB, PAEB-day, PAEB-night, BSW, BSI, and LKA). In addition, the Agency plans to assign credit for the existing ADAS technologies (i.e., FCW, CIB, DBS, and LDW), for any vehicles receiving credit for the corresponding new technologies, AEB and LKA, as applicable.

As an example, if a vehicle manufacturer has indicated in its submission to NCAP's annual information request that a particular vehicle model achieves passing performance in NCAP's new AEB test, this vehicle model will be assigned credit for AEB and will separately be assigned credit for FCW, CIB, and DBS. Similarly, if the manufacturer indicates to NCAP that the vehicle model passes NCAP's new LKA test, it will be assigned credit for LKA as well as LDW.

Assigning credit for the existing comparable ADAS tests when passing performance is achieved for the related new, more stringent tests, should limit consumer confusion. When comparing a vehicle that passes NCAP's AEB and LKA tests to a vehicle that does not pass these tests, the consumer will always see performance credit assigned to a greater number of technologies for the former (i.e., 6 technologies, or more) compared to the latter (i.e., at most 4 technologies). In this way, consumers should be encouraged to seek out those vehicle models that afford better overall system performance to prevent frontal crashes and lane/roadway departures.

The Agency believes pursuing an approach whereby credit is imputed to NCAP's existing ADAS tests when the comparable new ADAS tests are passed should also lessen manufacturer test burden and reduce overall testing costs, as manufacturers who have conducted the NCAP's new ADAS tests will not have to separately perform the program's existing ADAS tests for the same vehicle model. Furthermore, NHTSA reasons such an approach is appropriate considering that the more stringent test protocols adopted for AEB and LKA encompass the performance requirements previously established for FCW, CIB, DBS, and LDW, respectively.

NHTSA's planned approach of awarding credit to both the existing and future ADAS technologies will be limited to the 2026 model year. For 2027 model year vehicles, the Agency will assign credit only to those vehicles achieving passing performance for the newly adopted ADAS technologies—AEB, PAEB-day, PAEB-night, BSW, BSI, and LKA.

As the Agency has stated that it does not intend to provide early credit for those model year 2026 vehicles that are able to achieve passing performance for NCAP's crashworthiness pedestrian protection program, NHTSA will not begin to assign crashworthiness pedestrian protection credit until the 2027 model year. No credit for crashworthiness pedestrian protection will be assigned for model year 2026 vehicles.

Issued in Washington, DC, under authority delegated in 49 CFR 1.95, 501.4, and 501.5.
Peter Simshauser,
Chief Counsel.

[FR Doc. 2025-18285 Filed 9-19-25; 8:45 am]

BILLING CODE 4910-59-P